FEDERAL COMMUNICATIONS COMMISSION

47 CFR Part 20

[CC Docket No. 94-102; DA 01-2885]

Petitions for Reconsideration Concerning PSAP Requests for Phase II Enhanced 911, Comments Invited

AGENCY: Federal Communications Commission.

ACTION: Final rule, petitions for reconsideration.

SUMMARY: The Commission seeks comment on petitions for reconsideration of its recent decision in this proceeding regarding universal Enhanced 911(E911) service. In that decision, the Commission amended its rules to clarify what constitutes a valid Public Safety Answering Point (PSAP) request for E911 service so as to trigger a wireless carrier's obligation to implement E911 within the six-month period following the date of the request. The current action is taken to establish a record from which the Commission can evaluate the merits of the petitions for reconsideration.

DATES: Comments are due on or before January 18, 2002, and reply comments are due on or before January 28, 2002.

ADDRESSES: Federal Communications Commission, 445 12th Street, SW., Washington, DC 20554.

FOR FURTHER INFORMATION CONTACT: Jane Phillips, 202-418-1310.

SUPPLEMENTARY INFORMATION: This is a summary of Commission's document in CC Docket No. 94-102, DA 01-2885, released on December 12, 2001. The complete text of this document is available for inspection and copying during normal business hours in the FCC Reference Information Center, Courtyard Level, 445 12th Street, SW., Washington, DC, and also may be purchased from the Commission's copy contractor, Qualex International, Portals II, 445 12th Street, SW., Room CY-B402, Washington, DC 20554. Copies of the full text of this decision may also be found at the Commission's Internet site at www.fcc.gov.

Synopsis of the Commission's Decision

1. The Commission solicits comment on petitions for reconsideration of its decision in this proceeding (66 FR 55618, November 2, 2001, and 66 FR 63093, December 4, 2001) filed by Sprint PCS (Sprint) on November 30, 2001, and by Cingular Wireless LLC (Cingular) on December 3, 2001. In that decision, the Commission amended its rules to clarify what constitutes a valid Public Safety Answering Point (PSAP) request for enhanced 911 (E911) service so as to trigger a wireless carrier's obligation to implement E911 within the six-month period following the date of the request. If challenged by the wireless carrier, the request will be deemed valid if the PSAP making the request demonstrates E911 readiness as provided in the amended rule, 47 CFR 20.18(j).

2. Sprint requests several amendments to the Commission's documentation requirements, and Cingular contends that the language of amended § 20.18(j) is internally inconsistent and contradicts previous Commission's statements and that the decision violates the notice and comment requirement of the Administrative Procedure Act and is arbitrary and capricious.

3. The petitions are available for public inspection during regular business hours in the FCC Public Reference Room, Room CY-A257, 445 12th Street, NW., Washington, DC 20554. Petitions and comments may also be viewed electronically by accessing the Commission Internet site at www.fcc.gov or purchased from the Commission's copy contractor, Qualex International, Portals II, 445 12th Street, SW., Room CY-B402, Washington, DC 20554.

4. Pursuant to 47 CFR 1.1200(a), this proceeding is designated as a “permit but disclose” proceeding and subject to § 1.1206 of the Commission's rules. Presentations to or from Commission decision-making personnel are permissible, provided that ex parte presentations are disclosed pursuant to 47 CFR 1.1206.

5. Interested parties may file comments or oppositions responding to the petitions on or before January 18, 2002, and reply comments on or before January 28, 2002. Comments may be filed using the Commission's Electronic Comment Filing System (ECFS) or by filing paper copies. Comments filed through the ECFS can be sent via the Internet to http://www.fcc/e-file/ecfs.html. Only one copy of an electronic submission must be filed. In completing the transmittal screen, commenters should include their full name, postal service mailing address, and the applicable docket or rulemaking number.

6. Parties may also submit an electronic comment by Internet e-mail. To get filing instructions for e-mail comments, commenters should send an e-mail message to ecfs@fcc.gov, and should include the following words in the body of the message, “get form<your e-mail address>. A sample form and directions will be sent.

Parties who choose to file by paper must file an original and four copies of each filing. All filings must be sent to the Commission's Secretary, Magalie Roman Salas, Office of the Secretary, Federal Communications Commission, 445 12th Street, SW., Washington, DC 20554. A copy should also be sent to Jane Phillips, Room 3A-200.

Federal Communications Commission.
Kris Anne Monteith,
Chief, Policy Division, Wireless Telecommunications Bureau.

[FR Doc. 02-1165 Filed 1-14-02; 8:45 am]

BILLING CODE 6712-01-P